DEPARTMENT OF COMMERCE

National Oceanic and Atmospheric Administration

50 CFR Part 300

[Docket No. 991220343-0071-02; I.D. 082300C]

Pacific Halibut Fisheries; Oregon Sport Fisheries

AGENCY: National Marine Fisheries Service (NMFS), National Oceanic and Atmospheric Administration (NOAA), Commerce.

ACTION: Inseason action.

SUMMARY: NMFS announces changes to the fishing season for the Area 2A sport fisheries off the Oregon coast. This action would transfer quota from the Oregon coast nearshore fishery to the Oregon coast all-depth fishery, and would set an all-depth fishing date for Friday, September 22, 2000.

DATES: Effective September 7, 2000, through December 31, 2000.

ADDRESSES: Comments may be mailed to William Stelle, Jr., Regional Administrator, Northwest Region, NMFS, 7600 Sand Point Way, Seattle, WA 98115.

FOR FURTHER INFORMATION CONTACT: Yvonne deReynier, 206-526-6129.

SUPPLEMENTARY INFORMATION: The Area 2A Catch Sharing Plan (CSP) for Pacific halibut off Washington, Oregon, and California is implemented in the annual management measures for the Pacific halibut fisheries published on March 20, 2000 (65 FR 14909). Those measures organize the Oregon sport fishery for halibut between Cape Falcon and Humbug Mountain into three separate seasons. The first season is a small, incidental season for halibut taken shoreward of the 30-fathom depth contour, and lasts from May 1 through September 30. Halibut are not frequently encountered in nearshore waters, and this first season offers fishers the opportunity to retain incidentally-caught halibut on fishing trips targeting other species. The second season is an all-depth fishery in May, with the season length determined by comparing pre-season estimates of expected catch per day against the halibut quota for that fishery. The third season is an all-depth fishery in August, which harvests the remainder of the all-depth quota not taken in the May fishery.

Before the start of the May 2000 all-depth season, Oregon Department of Fish and Wildlife (ODFW) estimated that the May fishery would take 106,724 lb (48,409 kg) of halibut over a 5-day season, leaving 35,893 lb (16,281 kg) of halibut for the August all-depth fishery. However, weather during the 5-day fishery was unusually pleasant and vessels landed significantly more halibut than had been estimated in preseason projections, 128,573 lb (58,320 kg). As a result of this overage in the May fishery, only 14,044 lb (6,370 kg) of halibut remained for an August fishery from the all-depth quota. Based on past August all-depth fisheries, ODFW had estimated that at least 30,000 lb (13,608 kg) would be needed to hold a single day of all-depth fishing in August. The International Pacific Halibut Commission (IPHC), ODFW, and NMFS met and agreed to cancel the August all-depth fishing opportunity, based on insufficient quota. This fishery had been set preseason for Friday, August 4.

The Area 2A CSP allows inseason changes to sport fishery season dates and other management measures, and includes several provisions for quota transfers. Under the CSP, halibut quota may be transferred from the Oregon central coast nearshore fishery to the all-depth fishery, as long as enough quota remains available to allow nearshore halibut fishing opportunities through September 30. The 2000 quota for the Oregon coast nearshore fishery is 12,324 lb (5,590 kg,) of which ODFW estimates 7,324 lb (3,322 kg) will be needed to maintain the fishery through September 30.

On August 11, 2000, NMFS met via telephone conference call with representatives of ODFW, the Pacific Fishery Management Council (Council), and IPHC to determine whether moving quota from the nearshore fishery to the all-depth fishery would provide enough halibut quota to hold a day of all-depth sport fishing in September. By combining the 14,044 lb (6,370 kg) remaining in the all-depth quota with the 5,000 lb (2,268 kg) available from the nearshore fishery, 19,368 lb (8,785 kg) could be made available to the all-depth fishery. Historically, September all-depth fishing days have had landings levels of about half the level of August all-depth fishing days in the same year. Because the August fishery this year was expected to take about 30,000 lb (13,608 kg) of halibut, managers determined that 19,368 lb (8,785 kg) would be enough halibut to hold a day of all-depth fishing in September. To ensure conservative season structuring, halibut managers further recommended holding the fishery on a week day in late September, when sport fishery participation decreases due to colder weather and the opening of the school year.

Section 24 of the 2000 Pacific halibut regulations provides NMFS with the flexibility to make certain inseason management changes, provided that the action is necessary to allow allocation objectives to be met, and that the action will not result in exceeding the catch limit for the area. The structuring objectives for this subarea are to provide two periods of fishing opportunity in May and in August in productive deeper water areas along the coast, principally for charter boat and larger private boat anglers, and to provide a period of fishing opportunity in the summer for nearshore waters for small boat anglers. While this year’s fishing season has met the structuring objective for the nearshore fishery, too much halibut was taken in the May fishery to meet the objective of having a second all-depth season in August. This inseason action would address the lost August opportunity as much as possible by scheduling an all-depth season date in September.

In consultation with the ODFW, the Council, and the IPHC, NMFS has determined that transferring 5,000 lb (2,268 kg) of unneeded quota from the nearshore fishery to the all-depth fishery and scheduling a day of all-depth fishing for Friday, September 22 accommodates the CSP’s season structuring objective for the Oregon central coast area without allowing the fishery to exceed its quota.

NMFS Action

For the reasons stated here, NMFS announces the following changes to the 2000 annual management measures (65 FR 14909, March 20, 2000).

1. In section 23. Sport Fishing for Halibut, paragraphs (4)(b)(v)(A)(1) and (A)(3) are revised to read as follows:

2000 Pacific Halibut Fishery Regulations

23. Sport Fishing for Halibut

* * * * *

(4) * * *

(b) * * *

(v) * * *

(A) * * *

(1) The first season is limited to the area inside the 30-fathom (55 m) curve nearest to the coastline as plotted on National Ocean Service charts numbered 18520, 18580, and 18600. It commences May 1 and continues every day through September 30, or until the combined subquotas of the north central and south central inside 30-fathom fisheries (7,324 lb (3.32 mt)) is estimated to have been taken and the season is closed by the Commission, whichever is earlier.

* * * * *

(3) The third season is open on September 22 to harvest the remainder of the quotas for the all-depth fisheries in the subareas described in paragraphs (v) and (vi) of this section, totaling 142,618 lb (64.7 mt).

* * * * *

2. In section 23. Sport Fishing for Halibut, paragraphs (4)(b)(vi)(A)(1), and (A)(3) are revised to read as follows:

2000 Pacific Halibut Fishery Regulations

23. Sport Fishing for Halibut

* * * * *

(4) * * *

(b) * * *

(vi) * * *

(A) * * *

(1) The first season is limited to the area inside the 30-fathom (55 m) curve nearest to the coastline as plotted on National Ocean Service charts numbered 18520, 18580, and 18600. It commences May 1 and continues every day through September 30, or until the combined subquotas of the north central and south central inside 30-fathom fisheries (7,324 lb (3.32 mt)) is estimated to have been taken and the season is closed by the Commission, whichever is earlier.

* * * * *

(3) The third season is open on September 22 to harvest the remainder of the quotas for the all-depth fisheries in the subareas described in paragraphs (v) and (vi) of this section, totaling 142,618 lb (64.7 mt).

* * * * *

Classification

This action is authorized by the regulations implementing the Catch Sharing Plan. The determination to take these actions is based on the most recent data available. Because of the need for immediate action to allow fishers access to the Oregon coast halibut quota, and because the public had an opportunity to comment on the CSP that is being implemented and on NMFS’ authority to make inseason changes to certain management measures when those measures would further the objectives of the Catch Sharing Plan, NMFS has determined that good cause exists for this document to be published without affording a prior opportunity for public comment or a 30-day delayed effectiveness period. Public comments will be received for a period of 15 days after the effectiveness of this action. This action is authorized by Section 24 of the annual management measures for Pacific halibut fisheries published on March 20, 2000 (65 FR 14909) and has been determined to be not significant for purposes of Executive Order 12866.

Dated: September 5, 2000.
Richard W. Surdi,
Acting Director, Office of Sustainable Fisheries, National Marine Fisheries Service.

[FR Doc. 00-23385 Filed 9-7-00; 3:06 pm]

BILLING CODE 3510-22-S